COMMISSION ON CIVIL RIGHTS

Agenda and Notice of Public Meeting of the Indiana Advisory Committee (Time Change)

Notice is hereby given, pursuant to the provisions of the rules and regulations of the U.S. Commission on Civil Rights, that the Indiana Advisory Committee to the Commission will convene a meeting from 1 p.m. until 5 p.m. on Thursday, February 26, 2004, at the Julia Carson Center, 300 East Fall Creek Parkway, Indianapolis, Indiana 46205. The purpose of the meeting is to discuss civil rights issues of interest and plan future activities. The original notice stated the meeting time from 9 a.m. to 5 p.m. this notice is being issued to inform the public of this time change.

Persons desiring additional information should contact Hollis Hughes, Committee Chairperson at 574-232-8201 or Constance M. Davis, Director of the Midwestern Regional Office 312-353-8311, (TDD 312-353-8362). Hearing-impaired persons who will attend the meeting and require the services of a sign language interpreter should contact the Regional Office at least ten (10) working days before the scheduled date of the meeting.

The meeting will be conducted pursuant to the provisions of the rules and regulations of the Commission.

Dated at Washington, DC, January 29, 2004.
Ivy L. Davis,
Chief, Regional Programs Coordination Unit.

[FR Doc. 04-2211 Filed 2-3-04; 8:45 am]

BILLING CODE 6335-01-P